NUCLEAR REGULATORY COMMISSION

[Docket Nos. 50-250 and 50-251]

Florida Power and Light Company; Notice of Withdrawal of Application for Amendment to Facility Operating License

The U.S. Nuclear Regulatory Commission (the Commission) has granted the request of Florida Power and Light Company (the licensee) to withdraw its March 22, 2005, application for proposed amendment to Facility Operating License Nos. DPR-31 and DPR-41 for the Turkey Point Nuclear Plant, Unit Nos. 3 and 4, located in Miami-Dade County, Florida.

The proposed amendment would have revised the Technical Specifications pertaining to the Reactor Protection System functional units. Specifically, the steam/feedwater flow mismatch coincident with steam generator water level—low reactor trip would be deleted, the reactor trip on turbine trip interlock would be changed from P-7 to P-8, and the value of the P-8 interlock setpoint would be changed from 45 percent rated thermal power (RTP) to 40 percent RTP.

The Commission had previously issued a Notice of Consideration of Issuance of Amendment published in the Federal Register on May 10, 2005 (70 FR 24651). However, by letter dated January 25, 2006, the licensee withdrew the proposed change.

For further details with respect to this action, see the application for amendment dated March 22, 2005, and the licensee's letter dated January 25, 2006, which withdrew the application for license amendment. Documents may be examined, and/or copied for a fee, at the NRC's Public Document Room (PDR), located at One White Flint North, Public File Area 01 F21, 11555 Rockville Pike (first floor), Rockville, Maryland. Publicly available records will be accessible electronically from the Agencywide Documents Access and Management Systems (ADAMS) Public Electronic Reading Room on the Internet at the NRC Web site, http://www.nrc.gov/reading-rm/adams/html. Persons who do not have access to ADAMS or who encounter problems in accessing the documents located in ADAMS, should contact the NRC PDR Reference staff by telephone at 1-800-397-4209, or 301-415-4737 or by e-mail to pdr@nrc.gov.

Dated at Rockville, Maryland, this 22nd day of February 2006.
For the Nuclear Regulatory Commission.
Brendan T. Moroney,
Project Manager, Plant Licensing Branch II-2, Division of Operating Reactor Licensing, Office of Nuclear Reactor Regulation.

[FR Doc. E6-3978 Filed 3-17-06; 8:45 am]

BILLING CODE 7590-01-P